DEPARTMENT OF ENERGY

Federal Energy Regulatory Commission

Notice of Meeting

March 6, 2002.

The following notice of meeting is published pursuant to section 3(A) of the Government in the Sunshine Act (Pub. L. No. 94-409), 5 U.S.C 552B:

AGENCY HOLDING MEETING: Federal Energy Regulatory Commission.

DATE AND TIME: March 13, 2002, 10:00 a.m.

PLACE: Room 2C, 888 First Street, NE, Washington, DC 20426.

STATUS: Open.

MATTERS TO BE CONSIDERED: Agenda.

*Note—Items listed on the agenda may be deleted without further notice.

CONTACT PERSON FOR MORE INFORMATION: Magalie R. Salas, Secretary. Telephone (202) 208-0400. For a recording listing items stricken from or added to the meeting, call (202) 208-1627.

This is a list of matters to be considered by the Commission. It does not include a listing of all papers relevant to the items on the agenda; however, all public documents may be examined in the reference and information center.

787th—Meeting March 13, 2002, Regular Meeting, 10 a.m.

Administrative Agenda

A-1.

Docket# AD02-1, 000, Agency Administrative Matters

A-2.

Docket# AD02-7, 000, Customer Matters, Reliability, Security and Market Operations

A-3.

Docket# AD01-3, 000, California Infrastructure Update

A-4.

Docket# AD02-12, 000, Northeast RTO Update

Other#s RT01-86, 000, Bangor Hydro-Electric Company; RT01-86, 001, Bangor Hydro-Electric Company; RT01-86, 002, Bangor Hydro-Electric Company; RT01-95, 000, New York Independent System Operator Inc.; RT01-95, 001, New York Independent System Operator Inc.; RT01-95, 002, New York Independent System Operator Inc.; RT01-99, 000, Regional Transmission Organizations; RT01-99, 001, Regional Transmission Organizations; RT01-99, 002, Regional Transmission Organizations; RT01-99, 003, Regional Transmission Organizations

Markets, Tariffs and Rates—Electric

E-1.

Docket# RM01-12, 000, Standard Market Design Scoping

E-2.

Docket# ER02-766, 000, Florida Power & Light Company

E-3.

Docket# ER02-637, 000, Pacific Gas and Electric Company

Other#s ER02-637, 001, Pacific Gas and Electric Company

E-4.

Docket# ER02-405, 000, Entergy Services, Inc.

Other#s ER02-405, 001, Entergy Services, Inc.

E-5.

Docket# ER02-338, 000, Portland General Electric Company

Other#s ER02-338, 001, Portland General Electric Company

E-6.

Docket# ER02-818, 000, LG&E Capital Trimble County LLC

E-7.

Docket# ER01-1740, 000, New York Independent System Operator Inc.

Other#s ER01-1520, 000, New York Independent System Operator Inc.

E-8.

Omitted

E-9.

Docket# ER02-4, 000, Pacific Gas & Electric Company

E-10.

Docket# ER02-358, 000, Pacific Gas and Electric Company

Other#s ER01-2998, 000, Pacific Gas and Electric Company

E-11.

Docket# ER02-782, 000, Florida Power & Light Company

E-12.

Docket# EL99-14, 003, Southwestern Electric Cooperative, Inc. v. Soyland Power Cooperative, Inc.

Other#s EL99-14, 004, Southwestern Electric Cooperative, Inc. v. Soyland Power Cooperative, Inc.

E-13.

Docket# EC02-15, 000, Cinergy Services, Inc., Cinergy Corporation, The Cincinnati Gas & Electric Company, Cinergy Power Investments and PSI Energy, Inc.

Other#s ER02-177, 000, Cinergy Services, Inc., Cinergy Corporation, The Cincinnati Gas & Electric Company, Cinergy Power Investments and PSI Energy, Inc.; ER02-177, 001, Cinergy Services, Inc., Cinergy Corporation, The Cincinnati Gas & Electric Company, Cinergy Power Investments and PSI Energy, Inc.; ER02-177, 002, Cinergy Services, Inc., Cinergy Corporation, The Cincinnati Gas & Electric Company, Cinergy Power Investments and PSI Energy, Inc.; EC02-15, 001, Cinergy Services, Inc., Cinergy Corporation, The Cincinnati Gas & Electric Company, Cinergy Power Investments and PSI Energy, Inc.

E-14.

Docket# EL01-78, 001, LG&E Energy Marketing, Inc. v. Southern Company Services, Inc. and Georgia Transmission Corporation

E-15.

Docket# EL01-65, 001, Californians for Renewable Energy, Inc. v. British Columbia Hydro and Power Authority, Powerex Corporation, Southern Energy Marketing Company (Mirant) and Bonneville Power Administration E-16.

Docket# ER02-111, 001, Midwest Independent Transmission System Operator, Inc.

E-17.

Docket# ER02-170, 001, Boston Edison Company

E-18.

Docket# ER02-132, 002, American Transmission Systems, Inc.

E-19.

Docket# EL01-92, 001, Bangor Hydro-Electric Company

E-20.

Docket# ER02-42, 001, GWF Energy LLC

Other#s ER00-2998, 003, Southern Company Services, Inc.; ER00-2999, 003, Southern Company Services, Inc.; ER00-3000, 003, Southern Company Services, Inc.; ER00-3001, 003, Southern Company Services, Inc.

E-21.

Omitted

E-22.

Docket# EL01-93, 004, Mirant Americas Energy Marketing, L.P., Mirant New England, LLC, Mirant Kendall, LLC and Mirant, LLC v. ISO New England Inc.

Other#s ER00-2998, 004, Southern Company Services, Inc.; ER00-2999, 004, Southern Company Services, Inc.; ER00-3000, 004, Southern Company Services, Inc.; ER00-3001, 004, Southern Company Services, Inc.

E-23.

Docket# ER02-185, 002, New England Power Pool

E-24.

Omitted

E-25.

Omitted

E-26.

Omitted

E-27.

Docket# ER02-79, 001, Southern California Edison Company

E-28.

Docket# ER01-3009, 003, New York Independent System Operator, Inc.

Other#s ER01-3009, 004, New York Independent System Operator, Inc.; ER01-3153, 003, New York Independent System Operator, Inc.; ER01-3153, 004, New York Independent System Operator, Inc.; EL00-90, 003, Morgan Stanley Capital Group, Inc. v. New York Independent System Operator, Inc.; EL00-90 004 Morgan Stanley Capital Group, Inc. v. New York Independent System Operator, Inc.

E-29.

Docket# EG02-78, 000, Duke Energy Hot Spring, LLC

E-30.

Omitted

E-31.

Docket# ER02-645, 000, American Transmission Company LLC

E-32.

Docket# EL01-87, 000, South Eastern Energy Corporation and Morgan Stanley Capital Group, Inc. v. City of Dalton, Georgia, Georgia Transmission Corporation, Georgia Power Company and the Municipal Electric Authority of Georgia

E-33.

Docket# EL01-90, 000, Consumers Union of United States, Inc.

E-34.

Docket# EL02-46, 000, Generator Coalition v. Entergy Services, Inc.

Other#s ER01-2201, 000, Generator Coalition v. Entergy Services, Inc.

E-35.

Omitted

E-36.

Omitted

E-37.

Docket# EL02-47, 000, Wisconsin Public Power, Inc. v. Wisconsin Power & Light Company

Other#s EL02-52, 000, Municipal Wholesale Power Group v. Wisconsin Power & Light Company

E-38.

Docket# RT02-2, 001, State-Federal Regional RTO Panels

Other#s RM98-1, 003, Regulations Governing Off-the-Record Communications; RM99-2, 003, Regional Transmission Organizations; EC99-80, 017, American Electric Power Service Company; ER99-3144, 017, Alliance Companies; RM00-10, 001, Open Access Same-Time Information System Phase II; ER00-3295, 004, International Transmission Company; RT01-1, 001, NB Power Corporation, Nova Scotia Power Incorporated, Maritime Electric Company, Limited, Maine Electric Company, Maine Public Service Company and Eastern Maine Electric Cooperative, Inc.; RT01-2, 003, PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, Potomac Electric Power Company, PPL Electric Utilities Corporation, Public Service Electric & Gas Company and UGI Utilities, Inc.; RT01-10, 002, Allegheny Power; RT01-13, 001, Duquesne Light Company; RT01-15, 003, Avista Corporation, Montana Power Company, Nevada Power Company, Portland General Electric Company, Puget Sound Energy, Inc. and Sierra Pacific Power Company; RT01-26, 002, Northern Indiana Public Service Company; RT01-34, 005, Southwest Power Pool, Inc.; RT01-35, 004, Avista Corporation, Bonneville Power Administration, Idaho Power Company, Montana Power Company, Nevada Power Company, PacifiCorp, Portland General Electric Company and Sierra Power Company; RT01-37, 002, Dayton Power and Light Company; RT01-44, 002, Arizona Public Service Company, Desert STAR, Inc., El Paso Corporation, Public Service Company of Colorado, Public Service Company of New Mexico, Texas-New Mexico Power Company and Tucson Electric Power Company; RT01-67, 004, GridFlorida LLC, Florida Power & Light Company, Florida Power Corporation and Tampa Electric Company; RT01-74, 006, Carolina Power & Light Company, Duke Energy Corporation, GridSouth Transco, LLC and South Carolina Electric & Gas Company; RT01-75, 006, Entergy Services, Inc.; RT01-77, 003, Southern Company Services, Inc.; EL01-80, 002, National Grid USA; RT01-82, 001, San Diego Gas & Electric Company; RT01-83, 001, Pacific Gas & Electric Company; RT01-84, 002, Illinois Power Company; RT01-85, 006, California Independent System Operator Corporation; RT01-86, 002, Bangor Hydro-Electric Company, Central Maine Power Company, ISO New England Inc., National Grid USA, Northeast Utilities Service Company, United Illuminating Company and the Vermont Electric Power Company, Inc.; RT01-87, 004, Midwest Independent System Operator, Inc.; RT01-88, 013, Ameren Corporation, American Electric Power Service Corporation, American Transmission Systems, Inc., Appalachian Power Company, Central Illinois Public Service Company, Cleveland Electric Illuminating Company, Columbus Southern Power Company, Commonwealth Edison Company of Indiana, Inc., Commonwealth Edison Company, Consumers Energy Company, Dayton Power and Light Company, Detroit Edison Company, Exelon Corporation, FirstEnergy Corporation, Illinois Power Company, Indiana Michigan Power Company, Kentucky Power Company, Kingsport Power Company, Ohio Edison Company, Ohio Power Company, Pennsylvania Power Company, Toledo Edison Company, Union Electric Company, Virginia Electric & Power Company and Wheeling Power Company; RT01-89, 001, Citizens Communications Company; RT01-90, 001, Concord Electric Company; RT01-92, 001, Southern California Edison Company; RT01-93, 001, California Power Exchange Corporation; RT01-94, 002, NSTAR Services Company; RT01-95, 002, New York Independent System Operator, Inc., Central Hudson Gas & Electric Corporation, Consolidated Edison Company of New York, Inc., Niagara Mohawk Power Corporation, Orange & Rockland Utilities, Inc. and Rochester Gas and Electric Corporation; RT01-96, 001, Alliant Energy Corporate Services, Inc., American Transmission Company, LLC, Central Illinois Light Company, Cincinnati Gas & Electric Company, Cinergy Corporation, Hoosier Energy Rural Electric Cooperative, Inc., IES Utilties, Inc., Interstate Power Company, Kentucky Utilities Company, Louisville Gas and Electric Company, Northern States Power Company (Minnesota), Northern States Power Company (Wisconsin), PSI Energy, Inc., Southern Indiana Gas and Electric Company and Union Light, Heat & Power Company; RT01-98, 003, PJM Interconnection, L.L.C., Monongahela Power Company, Potomac Edison Company and West Penn Power Company; RT01-99, 003, Regional Transmission Organizations; RT01-100, 002, Regional Transmission Organizations; RT01-101, 002, International Transmission Company and DTE Energy Company; EL01-116, 001, Montana-Dakota Utilities Company; ER01-123, 006, Illinois Power Company; EC01-137, 001, DTE Energy Company and International Transmission Company; EC01-146, 002, International Transmission Company and DTE Energy Company; ER01-2992, 001, Commonwealth Edison Company; ER01-2993, 001, Virginia Electric and Power Company; ER01-2995, 001, American Electric Power Company; ER01-2997, 001, Dayton Power and Light Company; ER01-2999, 001, Illinois Power Company; ER01-3000, 002, International Transmission Company and DTE Energy Company; RT02-1, 001, Arizona Public Service Company, El Paso Electric Company, Public Service Company of New Mexico, Tucson Electric Power Company and WestConnect RTO, LLC; ER02-108, 001, Midwest Independent Transmission System Operator, Inc.

E-39.

Docket# ER01-3141, 001, American Electric Power Service Corporation: Other#s ER01-3141, 002, American Electric Power Service Corporation: ER01-3141, 003, American Electric Power Service Corporation

E-40.

Docket# ER01-2584, 000, Northeast Utilities Service Company Other#s ER01-2584, 001, Northeast Utilities Service Company

E-41.

Docket# EL02-35, 000, Niagara Mohawk Power Corporation v. Rochester Gas and Electric Corporation

E-42.

Docket# TX97-8, 000, PECO Energy Company

Miscellaneous Agenda

M-1.

Reserved

Markets, Tariffs and Rates—Gas

G-1.

Docket# RP00-336 002 El Paso Natural Gas Company

Other#s RP00-139, 000, ONEOK Energy Marketing & Trading Company, L.P.; RP01-484, 000, Aera Energy LLC; RP01-486, 000, Apache Nitrogen Products, Inc.

G-2.

Docket# RP02-158, 000, Viking Gas Transmission Company

G-3.

Docket# PR02-3, 000, Bay Gas Storage Company, Ltd.

G-4.

Docket# RP00-335, 000, Black Marlin Pipeline Company

Other#s RP01-414, 000, Black Marlin Pipeline Company

G-5.

Docket# RP00-341, 000, Egan Hub Partners, L.P.

Other#s RP00-341 001, Egan Hub Partners, L.P.; RP01-48, 000, Egan Hub Partners, L.P.

G-6.

Docket# RP00-401, 000, Enbridge Pipelines (AlaTenn) Inc.

Other#s RP01-4, 001, Enbridge Pipelines (AlaTenn) Inc.

G-7.

Docket# RP00-400, 000, Enbridge Pipelines (Midla) Inc.

Other#s RP01-5, 001, Enbridge Pipelines (Midla) Inc.

G-8.

Omitted

G-9.

Docket# CP95-168, 006, Sea Robin Pipeline Company

G-10.

Omitted

G-11.

Docket# RP02-122, 000, Kinder Morgan Interstate Gas Transmission, LLC

G-12.

Docket# RP01-612, 001, ANR Pipeline Company

Other#s RP01-612, 000, ANR Pipeline Company

G-13.

Docket# PR01-18, 001, Northwest Natural Gas Company

Other#s PR01-18, 000, Northwest Natural Gas Company

G-14.

Docket# RP98-53, 024, Kinder Morgan Interstate Gas Transmission LLC

Other#s RP98-53, 015, Kinder Morgan Interstate Gas Transmission LLC; RP98-53, 021, Kinder Morgan Interstate Gas Transmission LLC; RP98-53, 023, Kinder Morgan Interstate Gas Transmission LLC

G-15.

Docket# RP00-340, 000, Gulf South Pipeline Company, LP

Other#s RP00-340, 001, Gulf South Pipeline Company, LP; RP00-340, 002, Gulf South Pipeline Company, LP; RP01-7, 000, Gulf South Pipeline Company, LP

G-16.

Docket# RP00-461, 000, Western Gas Interstate Company

Energy Projects—Hydro

H-1.

Omitted

H-2.

Docket# P-2724, 028, City of Hamilton, Ohio

H-3.

Docket# P-2188, 073, PPL Montana, LLC

H-4.

Docket# P-2342, 013, PacifiCorp

H-5.

Docket# DI00-4, 001, Leonard Murphy

H-6.

Docket# EL02-10, 000, Hydro Investors, Inc. v. Trafalgar Power Inc., Christine Falls of New York, Inc., Franklin Industrial Complex, Inc., Aetna Life Insurance Company, Algonquin Power Corporation, Algonquin Power Income Fund and Algonquin Power Fund (Canada)

Other#s P-3760, 011, Franklin Industrial Complex, Inc.; P-4639, 021, Christine Falls of New York, Inc.; P-4639, 023, Christine Falls of New York, Inc.; P-4639, 026, Christine Falls of New York, Inc.; P-4900, 063, Trafalgar Power, Inc.; P-4900, 066, Trafalgar Power, Inc.; P-4900, 068, Trafalgar Power, Inc.; P-5000, 059, Trafalgar Power, Inc.; P-5000, 063, Trafalgar Power, Inc.; P-5000, 064, Trafalgar Power, Inc.; P-6878, 008, Trafalgar Power, Inc.; P-6878, 010, Trafalgar Power, Inc.; P-9685, 024, Trafalgar Power, Inc.; P-9685, 026, Trafalgar Power, Inc.; P-9709, 051, Trafalgar Power, Inc.; P-9709, 054, Trafalgar Power, Inc.; P-9709, 057, Trafalgar Power, Inc.; P-9821, 092, Trafalgar Power, Inc.; P-9821, 095, Trafalgar Power, Inc.; P-9821, 097, Trafalgar Power, Inc.; EL99-26, 000, Hydro Investors, Inc. v. Trafalgar Power Inc., Christine Falls of New York, Inc., Franklin Industrial Complex, Inc., Aetna Life Insurance Company, Algonquin Power Corporation, Algonquin Power Income Fund and Algonquin Power Fund (Canada)

H-7.

Docket# P-2016, 044, City of Tacoma, Washington

H-8.

Docket# P-2145, 042, Public Utility District No. 1 of Chelan County, Washington

Other#s P-943, 075, Public Utility District No. 1 of Chelan County, Washington

H-9.

Omitted

H-10.

Docket# DI97-8, 002, Georgia-Pacific Corporation

Other#s DI97-9, 002, Georgia-Pacific Corporation; P-2618, 011, Georgia-Pacific Corporation; P-2660, 010, Georgia-Pacific Corporation

Energy Projects—Certificates

C-1.

Docket# CP01-176, 000, Georgia Strait Crossing Pipeline LP

Other#s CP00-179, 000, Georgia Strait Crossing Pipeline LP; CP01-176, 001, Georgia Strait Crossing Pipeline LP; CP01-176, 002, Georgia Strait Crossing Pipeline LP; CP01-177, 000, Georgia Strait Crossing Pipeline LP; CP01-178, 000, Georgia Strait Crossing Pipeline LP

C-2.

Docket# CP02-79, 000, Desert Crossing Gas Storage and Transportation System LLC

C-3.

Docket# CP02-74, 000, Reef International, L.L.C.

C-4.

Docket# CP01-76, 001, Cove Point LNG Limited Partnership

Other#s CP01-77, 002, Cove Point LNG Limited Partnership; CP01-156, 002, Cove Point LNG Limited Partnership; RP01-217, 002, Cove Point LNG Limited Partnership

C-5.

Docket# CP01-87, 003, Dominion Transmission, Inc.

C-6.

Docket# CP00-232, 003, Iroquois Gas Transmission System, L.P.

Other#s CP00-232, 000, Iroquois Gas Transmission System, L.P.

C-7.

Docket# RM01-7, 000, Policy on Certificates of Public Convenience and Necessity for Gas Transmission Facilities in the Off-shore Southern Louisiana Area

Magalie R. Salas,
Secretary.

[FR Doc. 02-5852 Filed 3-8-02; 8:45 am]

BILLING CODE 6717-01-P